NATIONAL SCIENCE FOUNDATION

Public Information Collection Activities: Proposed Collection; Comment Request

AGENCY: National Science Foundation.

ACTION: Notice.

SUMMARY: The National Science Foundation (NSF) is announcing plans to seek approval of this information collection. In accordance with the requirement of Section 3506(c)(2)(A) of the Paperwork Reduction Act of 1995, Pub. L. 104-13 (44 U.S.C. 3501 et seq.), and as part of the continuing effort to reduce paperwork and respondent burden, NSF is inviting the general public and other Federal agencies to comment on this proposed information collection.

DATES: Written comments should be received by January 12, 2004 to be assured of consideration. Comments received after that date will be considered to the extent practicable.

ADDRESS: Written comments regarding the information collection and requests for copies of the proposed information collection request should be addressed to Suzanne H. Plimpton, Reports Clearance Officer, National Science Foundation, 4201 Wilson Blvd., Rm. 295, Arlington, VA 22230, or by e-mail to splimpto@nsf.gov.

FOR FURTHER INFORMATION CONTACT: Suzanne H. Plimpton at (703) 292-7556, or e-mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: Data Collection on Public Understanding of Science and Technology.

Type of Request: Intent to seek approval of an information collection for three years.

Proposed Project: For over twenty years, the National Science Foundation (NSF) has conducted a series of surveys to collect information about public attitudes toward and understanding of science and technology. NSF is currently reconsidering its data collection strategy. While the redesign is in process, NSF wishes to collect data on a limited number of key questions to maintain the continuity of its time series data and alert policy officials to significant changes, if any, in historic levels of public understanding and/or support for sciences and technology. For these purposes, NSF plans to add questions and requiring an average of 15 minutes of time per respondent to an ongoing, high quality survey with consistently high response rates (The University of Michigan Survey of Consumer Attitudes).

Use of the Information: The primary immediate use of the data will be in Science and Engineering Indicators—2006, a biannual statistical report from the National Science Board to the President and Congress on the state of science and engineering in the United States. The report includes a chapter on public understanding of and attitudes toward science and technology. Science and Engineering Indicators is used extensively by officials and researchers in government, education, industry, and professional and nonprofit associations both in the United States and abroad.

In addition, NSF's Office of Legislative and Public Affairs uses the information from this data collection in preparing speeches and testimony for NSF executives. The information is also used in NSF's Annual Report and in various publications prepared by NSF's Division of Science Resources Statistics.

Respondents: Individuals.

Estimated Number of Respondents: 2000.

Burden on the Public: NSF will add questions averaging 15 minutes of survey time to 2000 interviews to be conducted as part of the survey of Consumer Attitudes. This computes to 500 public burden hours in 2004.

Frequency of Responses: NSF collects data on public attitudes and understanding occasionally, at approximately two to three year intervals.

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

Dated: November 6, 2003.
Suzanne H. Plimpton,
Reports Clearance Officer, National Science Foundation.

[FR Doc. 03-28392 Filed 11-12-03; 8:45 am]

BILLING CODE 7555-01-M